DEPARTMENT OF COMMERCE

National Oceanic and Atmospheric Administration

RIN 0648-XJ40

Endangered Species; File No. 13543

AGENCY: National Marine Fisheries Service (NMFS), National Oceanic and Atmospheric Administration (NOAA), Commerce.

ACTION: Notice; receipt of application.

SUMMARY: Notice is hereby given that the South Carolina Department of Natural Resources, 217 Ft. Johnson Rd., Charleston, SC 29412, has applied in due form for a permit to take loggerhead (Caretta caretta), green (Chelonia mydas), Kemp's ridley (Lepidochelys kempii), leatherback (Dermochelys coriacea), and hawksbill (Eretmochelys imbricata) sea turtles for purposes of scientific research.

DATES: Written, telefaxed, or e-mail comments must be received on or before September 8, 2008.

ADDRESSES: The application and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13543.

FOR FURTHER INFORMATION CONTACT: Patrick Opay or Amy Hapeman, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The proposed research would further the understanding of the growth, distribution, and life history of sea turtles. The applicant requests a five-year permit to annually handle, measure, weigh, passive integrated transponder tag, flipper tag, and photograph up to 45 loggerhead, 6 green, 15 Kemp's ridley, 6 leatherback, and 2 hawksbill sea turtles. These animals would have already been captured by authorized coastal trawl surveys taking place in waters off of North Carolina to Florida.

Dated: July 31, 2008.
P. Michael Payne,
Chief, Permits, Conservation and Education Division, Office of Protected Resources, National Marine Fisheries Service.

[FR Doc. E8-18105 Filed 8-6-08; 8:45 am]

BILLING CODE 3510-22-S